DEPARTMENT OF DEFENSE

Department of the Army

Advisory Committee Meeting Notice

AGENCY: Department of the Army, DOD.

ACTION: Notice of meeting.

SUMMARY: In accordance with Section 10(a)(2) of the Federal Advisory Committee Act (Pub. L. 92-463), announcement is made of the following meeting:

Name of Committee: Distance Learning/Training Technology Applications Subcommittee of the Army Education Advisory Committee.

Date: October 5-6, 2005.

Place: Crowne Plaza Williamsburg at Fort Magruder, Williamsburg, VA.

Time: 0800-1630 on 5 Oct 05; 0800-1630 on 6 Oct 05.

Proposed Agenda: The meeting agenda includes updates on The Army Distributed Learning Program (TADLP) and infrastructure, review of selected courseware, and discussions focused on learning and technology.

Purpose of the Meeting: To provide for the continuous exchange of information and ideas for distance learning between the HQ, U.S. Army Training and Doctrine Command (TRADOC), Department of the Army, and the academic and business communities.

FOR FURTHER INFORMATION CONTACT: All communications regarding this subcommittee should be addressed to Mr. Mike Faughnan, at Headquarters TRADOC, Deputy Chief of Staff for Operations and Training, ATTN: ATTG-CF (Mr. Faughnan), Fort Monroe, VA 23651-5000; e-mail faughnanm@monroe.army.mil.

SUPPLEMENTARY INFORMATION: Meeting of the advisory committee is open to the public. Because of restricted meeting space, attendance will be limited to those persons who have notified the Advisory Committee Management Office in writing, at least 5 days prior to the meeting, of their intention to attend. Contact Mr. Faughnan (faughnanm@monroe.army.mil) for meeting agenda and specific locations.

Any member of the public may file a written statement with the committee before, during, or after the meeting. To the extent that time permits, the committee chairman may allow public presentations or oral statements at the meeting.

Robert E. Seger,
Senior Executive Service, Assistant Deputy Chief of Staff for Operations and Training.

[FR Doc. 05-18649 Filed 9-19-05; 8:45 am]

BILLING CODE 3710-08-M